DEPARTMENT OF JUSTICE

Notice of Lodging of Proposed Consent Decree Under the Toxic Substances Control Act and the Resource Conservation and Recovery Act

On May 14, 2014, the Department of Justice lodged a proposed Consent Decree with the United States District Court for the District of Nevada in the lawsuit entitled United States v.Titanium Metals Corporation, Civil Action No. 14-cv-00749-MMD-VCF.

The Consent Decree resolves claims against Titanium Metals Corporation (“TIMET”) under the Toxic Substances Control Act (“TSCA”), 15 U.S.C. 2601-2692, 2616 and the Resource Conservation and Recovery Act (“RCRA”), as amended, 42 U.S.C. 6901-6992k and 6928. The Consent Decree requires TIMET, under TSCA, to pay a $13.75 million civil penalty and to perform an investigation and cleanup of potential contamination stemming primarily from the unauthorized manufacture and disposal of PCBs (polychlorinated biphenyls) at its manufacturing facility in Henderson, Nevada. TIMET will pay an additional $250,000 for violations related to illegal disposal of hazardous process wastewater, in violation of the Resource Conservation and Recovery Act (RCRA).

In addition to paying the penalty and performing the investigation and cleanup, the settlement requires TIMET to electronically submit monitoring data to EPA for three years showing that it is appropriately managing any PCBs it generates. TIMET has also agreed to allow the Nevada Division of Environmental Protection (NDEP) to make public TIMET's EPA-approved work plans and completed work reports through a dedicated Web site.

The publication of this notice opens a period for public comment on the Consent Decree. Comments should be addressed to the Assistant Attorney General, Environment and Natural Resources Division, and should refer to United States v. Titanium Metals Corporation, D.J. Ref. No. 90-7-1-09824. All comments must be submitted no later than thirty (30) days after the publication date of this notice. Comments may be submitted either by email or by mail:

To submit comments: | Send them to:
By e-mail | pubcomment-ees.enrd@usdoj.gov
By mail | Assistant Attorney General U.S. DOJ—ENRD P.O. Box 7611 Washington, DC 20044-7611

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.50 (25 cents per page reproduction cost) payable to the United States Treasury.

Henry S. Friedman,
Assistant Section Chief, Environmental Enforcement Section, Environment and Natural Resources Division.

[FR Doc. 2014-11655 Filed 5-20-14; 8:45 am]

BILLING CODE 4410-15-P